DEPARTMENT OF COMMERCE

National Oceanic and Atmospheric Administration

Federal Consistency Appeal by Foothill/Eastern Transportation Corridor Agency

AGENCY: National Oceanic and Atmospheric Administration (NOAA), Department of Commerce (Commerce).

ACTION: Notice of Public Hearing.

SUMMARY: This notice provides information about a public hearing to be held by the National Oceanic and Atmospheric Administration (NOAA) in Irvine, California. The hearing involves an administrative appeal filed with the Department of Commerce by the Foothill/Eastern Transportation Corridor Agency and its board of directors (TCA). This notice also announces the reopening of the public and Federal agency comment period for the TCA Consistency Appeal, beginning July 21, 2008 and running through August 4, 2008.

DATES: NOAA will conduct a public hearing in the TCA Consistency Appeal on July 25, 2008. The hearing will begin at 10:30 a.m. and will continue until 8:30 p.m. Speaker registration begins at 10 a.m. on the day of the hearing.

ADDRESSES: The public hearing and speaker registration will be held at the University of California, Irvine, Bren Events Center, 100 Bren Events Center, Irvine, California 92697. Written comments on issues relevant to the Secretary's decision in this appeal may be submitted at the hearing. In addition, from July 21, 2008 to August 4, 2008, comments may be submitted by e-mail to gcos.comment@noaa.gov or by mail addressed to Thomas Street at the NOAA Office of the General Counsel for Ocean Services, 1305 East-West Highway, Room 6111, Silver Spring, MD 20910.

FOR FURTHER INFORMATION CONTACT: Thomas Street, Attorney-Advisor, NOAA Office of the General Counsel, 301-713-2967, or Stephanie Campbell, Attorney-Advisor, NOAA Office of the General Counsel, 301-713-2967, or gcos.inquiries@noaa.gov.

SUPPLEMENTARY INFORMATION: On February 15, 2008, TCA filed notice of an appeal with the Secretary of Commerce (Secretary), pursuant to the Coastal Zone Management Act of 1972 (CZMA), 16 U.S.C. 1451 et seq., and implementing regulations found at 15 CFR Part 930, Subpart H. TCA appealed an objection by the California Coastal Commission (Commission) to TCA's proposed construction of an extension to California State Route 241 in northern San Diego and southern Orange Counties, California.

Under the CZMA, the Secretary may override the Commission's objection if he determines that the project is consistent with the objectives or purposes of the CZMA or is otherwise necessary in the interest of national security. To make the determination that the proposed activity is “consistent with the objectives or purposes” of the CZMA, the Secretary must find that: (1) The proposed activity furthers the national interest as articulated in sections 302 or 303 of the CZMA, in a significant or substantial manner; (2) the adverse effects of the proposed activity do not outweigh its contribution to the national interest, when those effects are considered separately or cumulatively; and (3) no reasonable alternative is available that would permit the activity to be conducted in a manner consistent with enforceable policies of the state's coastal management program. 15 CFR 930.121.

On March 17, 2008, NOAA published a notice in the Federal Register announcing, among other things, that a public hearing might be held concerning this appeal. The hearing will be held. This notice provides scheduling and procedural information about the hearing.

The hearing in this appeal will commence at 10:30 a.m. at the Bren Events Center and will continue throughout the day with afternoon and evening sessions. Intermissions are expected near noon and late in the afternoon (around 4:30 p.m.). Other recesses may be called as necessary. Speakers must register on the day of the hearing, on site, at the Bren Events Center. Registration of speakers will begin at 10 a.m. The order of the speakers will be determined by the NOAA officials administering the hearing. Speakers generally will be recognized in the order in which they register (a first-come-first-served basis), alternating between individuals from the general public and those representing organizations. Specific periods are expected to be set aside during the afternoon and evening sessions for remarks by elected officials. Depending on the number of persons wishing to speak, speakers from the general public will receive up to three minutes to present their oral comments. Elected officials and individuals representing organizations will receive five minutes to speak. Only one individual may speak on behalf of an organization.

Written comments on issues relevant to the Secretary's decision in this appeal may be submitted to NOAA at the hearing by any person in attendance. In addition, written comments may be submitted by e-mail to gcos.comments@noaa.gov or by mail addressed to Thomas Street, NOAA Office of General Counsel for Ocean Services, 1305 East-West Highway, Room 6111, Silver Spring, MD 20910. Comments must be received by August 4, 2008.

This hearing is being held to obtain information on issues the Secretary will likely consider in deciding the TCA's appeal. A summary of relevant issues as well as additional background on the appeal appeared in the Federal Register notice of March 17, 2008, announcing the appeal, and may be found on the Internet at http://www.ogc.doc.gov/czma.com.htm. This Web site also includes additional information on the hearing, including conduct and decorum that is required, restrictions on the use of cameras and recording equipment and the display of signs and banners in the hearing room, the process by which testimony will be transcribed and made part of the record, and other rules and guidelines. (Please see the set of Frequently Asked Questions regarding the hearing.)

Questions concerning the hearing should be directed to Thomas Street, Attorney-Advisor, NOAA Office of the General Counsel, 301-713-2967, or Stephanie Campbell, Attorney-Advisor, NOAA Office of the General Counsel, 301-713-2967, or gcos.inquiries@noaa.gov.

Dated: June 2, 2008.
Joel La Bissonniere,
Assistant General Counsel for Ocean Services.

[Federal Domestic Assistance Catalog No. 11.419 Coastal Zone Management Program Assistance.]

[FR Doc. E8-15500 Filed 7-7-08; 8:45 am]

BILLING CODE 3510-08-P